DEPARTMENT OF HEALTH AND HUMAN SERVICES

[CMS-3432-N]

Secretarial Review and Publication of the 2022 Annual Report to Congress and the Secretary Submitted by the Consensus-Based Entity Regarding Performance Measurement

AGENCY: Office of the Secretary of Health and Human Services, HHS.

ACTION: Notice.

SUMMARY: This notice acknowledges the Secretary of the Department of Health and Human Services' (the Secretary's) receipt and review of the 2022 National Quality Forum Annual Report to Congress and the Secretary submitted by the consensus-based entity under a contract with the Secretary as mandated by the Social Security Act. The Secretary has reviewed and is publishing the report in the Federal Register together with the Secretary's comments on the report not later than 6 months after receiving the report in accordance with section 1890(b)(5)(B) of the Act. This notice fulfills the statutory requirements.

FOR FURTHER INFORMATION CONTACT: Carrie Sena, (410) 786-8003.

SUPPLEMENTARY INFORMATION:

I. Background

The United States Department of Health and Human Services (HHS) has long recognized that a high functioning health care system that provides higher quality care requires accurate, valid, and reliable measurement of quality and efficiency. The Medicare Improvements for Patients and Providers Act of 2008 (MIPPA) (Pub. L. 110-275) added section 1890 of the Social Security Act (the Act), which requires the Secretary of HHS (the Secretary) to contract with a consensus-based entity (CBE) to perform multiple duties to help improve performance measurement. Section 3014 of the Patient Protection and Affordable Care Act (the Affordable Care Act) (Pub. L. 111-148) expanded the duties of the CBE to help in the identification of gaps in available measures and to improve the selection of measures used in health care programs. The Secretary extends his appreciation to the CBE in their partnership for the fulfillment of these statutory requirements.

In January 2009, a competitive contract was awarded by HHS to the National Quality Forum (NQF) to fulfill requirements of section 1890 of the Act. A second, multi-year contract was awarded again to NQF after an open competition in 2012. A third, multi-year contract was awarded again to NQF after an open competition in 2017. Section 1890(b) of the Act requires the following:

Priority Setting Process: Formulation of a National Strategy and Priorities for Health Care Performance Measurement: The CBE must synthesize evidence and convene key stakeholders to make recommendations on an integrated national strategy and priorities for health care performance measurement in all applicable settings. In doing so, the CBE must give priority to measures that: (1) address the health care provided to patients with prevalent, high-cost chronic diseases; (2) have the greatest potential for improving quality, efficiency, and patient-centered health care; and (3) may be implemented rapidly due to existing evidence, standards of care, or other reasons. Additionally, the CBE must take into account measures that: (1) may assist consumers and patients in making informed health care decisions; (2) address health disparities across groups and areas; and (3) address the continuum of care furnished by multiple providers or practitioners across multiple settings.

Endorsement of Measures: The CBE must provide for the endorsement of standardized health care performance measures. This process must consider whether measures are evidence-based, reliable, valid, verifiable, relevant to enhanced health outcomes, actionable at the caregiver level, feasible to collect and report, responsive to variations in patient characteristics such as health status, language capabilities, race or ethnicity, and income level and are consistent across types of health care providers, including hospitals and physicians.

Maintenance of CBE Endorsed Measures: The CBE is required to establish and implement a process to ensure that endorsed measures are updated (or retired if obsolete) as new evidence is developed.

Convening Multi-Stakeholder Groups: The CBE must convene multi-stakeholder groups to provide input on: (1) the selection of certain categories of quality and efficiency measures, from among such measures that have been endorsed by the entity and from among such measures that have not been considered for endorsement by such entity but are used or proposed to be used by the Secretary for the collection or reporting of quality and efficiency measures; and (2) national priorities for improvement in population health and in the delivery of health care services for consideration under the national strategy. The CBE may also provide input to the Secretary on measures that could be considered for removal. The CBE provides input on measures for use in certain specific Medicare programs, for use in programs that report performance information to the public, and for use in health care programs that are not included under the Act. The multi-stakeholder groups provide input on quality and efficiency measures for various federal health care quality reporting and quality improvement programs including those that address certain Medicare services provided through hospices, ambulatory surgical centers, hospital inpatient and outpatient facilities, physician offices, cancer hospitals, end stage renal disease (ESRD) facilities, inpatient rehabilitation facilities, long-term care hospitals, psychiatric hospitals, and home health care programs.

Transmission of Multi-Stakeholder Input: Not later than February 1 of each year, the CBE must transmit to the Secretary the input of multi-stakeholder groups.

Annual Report to Congress and the Secretary: Not later than March 1 of each year, the CBE is required to submit to the Congress and the Secretary an annual report. The report is to describe:

• The implementation of quality and efficiency measurement initiatives and the coordination of such initiatives with quality and efficiency initiatives implemented by other payers;

• Recommendations on an integrated national strategy and priorities for health care performance measurement;

• Performance of the CBE's duties required under its contract with the Secretary;

• Gaps in endorsed quality and efficiency measures, including measures that are within priority areas identified by the Secretary under the national strategy established under section 399HH of the Public Health Service Act (National Quality Strategy), and where quality and efficiency measures are unavailable or inadequate to identify or address such gaps;

• Areas in which evidence is insufficient to support endorsement of quality and efficiency measures in priority areas identified by the Secretary under the National Quality Strategy, and where targeted research may address such gaps; and

• The convening of multi-stakeholder groups to provide input on: (1) the selection of quality and efficiency measures from among such measures that have been endorsed by the CBE and such measures that have not been considered for endorsement by the CBE but are used or proposed to be used by the Secretary for the collection or reporting of quality and efficiency measures; and (2) national priorities for improvement in population health and the delivery of health care services for consideration under the National Quality Strategy.

Section 50206(c)(1) of the Bipartisan Budget Act of 2018 (Pub. L. 115-123) amended section 1890(b)(5)(A) of the Act to require the CBE's annual report to the Congress to include the following: (1) an itemization of financial information for the previous fiscal year ending September 30th, including annual revenues of the entity, annual expenses of the entity, and a breakdown of the amount awarded per contracted task order and the specific projects funded in each task order assigned to the entity; and (2) any updates or modifications to internal policies and procedures of the entity as they relate to the duties of the CBE including specifically identifying any modifications to the disclosure of interests and conflicts of interests for committees, work groups, task forces, and advisory panels of the entity, and information on external stakeholder participation in the duties of the entity.

The statutory requirements for the CBE to annually report to the Congress and the Secretary also specify that the Secretary must review and publish the CBE's annual report in the Federal Register, together with any comments of the Secretary on the report, not later than 6 months after receiving it.

This Federal Register notice complies with the statutory requirement for Secretarial review and publication of the CBE's annual report. NQF submitted a report on its 2022 activities to the Congress and the Secretary on March 1, 2023. The Secretary's Comments on this report are presented in section II. of this notice, and the 2022 Annual Report to the Congress and the Secretary is provided, as submitted to HHS, in the addendum to this Federal Register notice in section III.

II. Secretarial Comments on the National Quality Forum 2022 Activities: Report to Congress and the Secretary of the Department of Health and Human Services

Across the country, many communities are facing immense challenges that have been exacerbated by public health emergencies including the opioid crisis, disasters related to climate change, and the COVID-19 pandemic. Throughout these recent crises and to prudently prepare for imminent threats the Department of Health and Human Services (HHS) must continue to focus on advancing equity and inclusion, strengthening public trust, and building meaningful engagement and learning across the health care system. By embedding the cross-cutting principles ¹ of equity, public trust, and collaboration into its diverse programs and initiatives, HHS is working to improve the health and well-being of individuals and families.

¹ HHS Strategic Cross-Cutting Principles, available at https://www.hhs.gov/about/strategic-plan/2022-2026/overview/index.html.

HHS values the work of the consensus-based entity for performance measurement and our mutual commitment to promote a resilient, high value, and safe health care system for all Americans. In 2022, HHS supported the work conducted by the CBE to identify health care quality measurement priorities and to provide consensus-based recommendations about measures to use for assessing and improving quality. As the CBE in 2022, the NQF continued to use rigorous standards to review measures for quality measure endorsement and maintain highly reliable and scientifically sound measures across priority health care topic areas. As required by section 1890(b) of the Act, the NQF Measure Applications Partnership (MAP) provided input on measures under consideration for quality reporting and value-based purchasing programs across various settings including ambulatory, acute care, post-acute care and long-term care. Specifically, the MAP considered measures related to health equity, COVID-19, person-centered care, rural health, and care coordination. The MAP also deliberated over measures for potential removal from HHS programs. The MAP supported HHS and national priorities to keep measures that are of the highest-value, aligned across programs, prioritizing patient-reported outcome measures, digital measures, and those that reflect consideration of social determinants of health.

In 2022, the CBE also convened the Core Quality Measures Collaborative (CQMC), a public-private partnership with the Centers for Medicare and Medicaid Services (CMS) and America's Health Insurance Plans (AHIP), to maximize alignment of quality measures among public and private payers. The CBE established a Health Equity Workgroup that identified disparity-sensitive measures within the CQMC core sets and proposed approaches for future considerations to prioritize measures that address social determinants of health. In alignment with HHS priorities to advance data interoperability and digital measure use, the CQMC Digital Measurement Workgroup continued, in 2022, to identify ways to address barriers to using digital quality measures and supporting efforts to align data standards for measurement.

To support the CMS National Quality Strategy ² and critical health care priorities, the CBE worked with quality measurement experts, clinicians, health plans, hospitals, accrediting and certifying entities, consumer organizations and others to improve areas of behavioral health, rural health, health care communication and coordination, and patient-centered care. In 2022, the CBE developed measurement frameworks detailing guidance, recommendations, and identifying measurement gaps for Opioid-Related Outcomes Among Individuals With Co-occurring Behavioral Health Conditions; Leveraging Quality Measures to Improve Rural Health; and Leveraging Electronic Health Record-Sourced Measures to Improve Care Communication and Coordination. Additional CBE projects included provided guidance for Best Practices for Developing and Testing Risk Adjustment Models; Building a Roadmap From Patient-Reported Outcome Measures to Patient-Reported Outcome Performance Measures; and establishing a Patient and Caregiver Engagement Advisory Group.

² CMS National Quality Strategy available at https://www.cms.gov/Medicare/Quality-Initiatives-Patient-Assessment-Instruments/Value-Based-Programs/CMS-Quality-Strategy.

In many ways, the CBE activities detailed in its 2022 Report to Congress enhanced quality measurement strategies that support HHS and national progress towards safe, accessible, value-based, and equitable care for individuals and communities. As our world and the demands on our health care system continue to evolve, HHS recognizes the increasing importance of varied experiences and perspectives, of consensus-based recommendations, and of evidence-based foundations that inform policies and strategies to improve the health care system. HHS looks forward to the continuity of activities with a new CBE, Battelle, who has extensive expertise and experience in collaborating with and engaging various health care partners to advance quality performance measurement.

III. Collection of Information Requirements

This document does not impose information collection requirements, that is, reporting, recordkeeping or third-party disclosure requirements. Consequently, there is no need for review by the Office of Management and Budget under the authority of the Paperwork Reduction Act of 1995 (44 U.S.C. 3501 et seq.).

IV. Addendum

In this Addendum, we are publishing the NQF Report on 2022 Activities to Congress and the Secretary of the Department of Health and Human Services, as submitted to HHS.

Dated: September 12, 2023.
Xavier Becerra,
Secretary, Department of Health and Human Services.

BILLING CODE 4120-01-8

[FR Doc. 2023-20076 Filed 9-18-23; 8:45 am]

BILLING CODE 4120-01-C